DEPARTMENT OF ENERGY

Federal Energy Regulatory Commission

Combined Notice of Filings #1

Take notice that the Commission received the following Complaints and Compliance filings in EL Dockets:

Docket Numbers: EL26-41-000.

Applicants: Terminus Hydroelectric, LLC v. California Independent System Operator Corporation.

Description: Complaint of Terminus Hydroelectric, LLC v. California Independent System Operator Corporation.

Filed Date: 1/16/26.

Accession Number: 20260116-5056.

Comment Date: 5 p.m. ET 2/5/26.

Take notice that the Commission received the following electric rate filings:

Docket Numbers: ER21-1807-007.

Applicants: Hill Top Energy Center LLC.

Description: Refund Report: Refund Report to be effective N/A.

Filed Date: 1/16/26.

Accession Number: 20260116-5043.

Comment Date: 5 p.m. ET 2/6/26.

Docket Numbers: ER26-606-001.

Applicants: North Johnson Energy Center, LLC.

Description: Tariff Amendment: Amendment to MBR Application to be effective 1/15/2026.

Filed Date: 1/16/26.

Accession Number: 20260116-5051.

Comment Date: 5 p.m. ET 1/23/26.

Docket Numbers: ER26-812-001.

Applicants: Midcontinent Independent System Operator, Inc.

Description: Tariff Amendment: 2026-01-15_SA 4626 Ameren Missouri-Ameren Missouri Sub Original GIA (R1059) to be effective 12/11/2025.

Filed Date: 1/15/26.

Accession Number: 20260115-5193.

Comment Date: 5 p.m. ET 2/5/26.

Docket Numbers: ER26-1054-000.

Applicants: Cimarron Energy Storage, LLC.

Description: 205(d) Rate Filing: Cimarron Energy Storage MBR Application to be effective 3/17/2026.

Filed Date: 1/15/26.

Accession Number: 20260115-5174.

Comment Date: 5 p.m. ET 2/5/26.

Docket Numbers: ER26-1055-000.

Applicants: Great Prairie Energy Storage, LLC.

Description: 205(d) Rate Filing: Great Prairie Energy Storage MBR Application to be effective 3/17/2026.

Filed Date: 1/15/26.

Accession Number: 20260115-5179.

Comment Date: 5 p.m. ET 2/5/26.

Docket Numbers: ER26-1056-000.

Applicants: Great Prairie Energy Storage II, LLC.

Description: 205(d) Rate Filing: Great Prairie Energy Storage II MBR Application to be effective 3/17/2026.

Filed Date: 1/15/26.

Accession Number: 20260115-5180.

Comment Date: 5 p.m. ET 2/5/26.

Docket Numbers: ER26-1057-000.

Applicants: Great Prairie Energy Storage III, LLC.

Description: 205(d) Rate Filing: Great Prairie Energy Storage III MBR Application to be effective 3/17/2026.

Filed Date: 1/15/26.

Accession Number: 20260115-5181.

Comment Date: 5 p.m. ET 2/5/26.

Docket Numbers: ER26-1058-000.

Applicants: Little Ashdown Solar, LLC.

Description: 205(d) Rate Filing: Little Ashdown Solar MBR Application to be effective 3/17/2026.

Filed Date: 1/15/26.

Accession Number: 20260115-5182.

Comment Date: 5 p.m. ET 2/5/26.

Docket Numbers: ER26-1059-000.

Applicants: Mammoth Plains Energy Storage, LLC.

Description: 205(d) Rate Filing: Mammoth Plains Energy Storage MBR Application to be effective 3/17/2026.

Filed Date: 1/15/26.

Accession Number: 20260115-5183.

Comment Date: 5 p.m. ET 2/5/26.

Docket Numbers: ER26-1060-000.

Applicants: McLemore Energy Center, LLC.

Description: 205(d) Rate Filing: McLemore Energy Center MBR Application to be effective 3/17/2026.

Filed Date: 1/15/26.

Accession Number: 20260115-5184.

Comment Date: 5 p.m. ET 2/5/26.

Docket Numbers: ER26-1061-000.

Applicants: Rice County Energy Center, LLC.

Description: 205(d) Rate Filing: Rice County Energy Storage Center MBR Application to be effective 3/17/2026.

Filed Date: 1/15/26.

Accession Number: 20260115-5187.

Comment Date: 5 p.m. ET 2/5/26.

Docket Numbers: ER26-1062-000.

Applicants: Sholes Energy Storage, LLC.

Description: 205(d) Rate Filing: Sholes Energy Storage MBR Application to be effective 3/17/2026.

Filed Date: 1/15/26.

Accession Number: 20260115-5190.

Comment Date: 5 p.m. ET 2/5/26.

Docket Numbers: ER26-1063-000.

Applicants: Sumner Energy Center, LLC.

Description: 205(d) Rate Filing: Sumner Energy Center MBR Application to be effective 3/17/2026.

Filed Date: 1/15/26.

Accession Number: 20260115-5197.

Comment Date: 5 p.m. ET 2/5/26.

Docket Numbers: ER26-1064-000.

Applicants: Wild Plains Wind Project II, LLC.

Description: 205(d) Rate Filing: Wild Plains Wind Project II MBR Application to be effective 3/17/2026.

Filed Date: 1/15/26.

Accession Number: 20260115-5199.

Comment Date: 5 p.m. ET 2/5/26.

Docket Numbers: ER26-1065-000.

Applicants: Yellow House Solar, LLC.

Description: 205(d) Rate Filing: Yellow House Solar MBR Application to be effective 3/17/2026.

Filed Date: 1/15/26.

Accession Number: 20260115-5200.

Comment Date: 5 p.m. ET 2/5/26.

Docket Numbers: ER26-1066-000.

Applicants: American Transmission Systems, Incorporated.

Description: 205(d) Rate Filing: ATSI submits a Construction Agmt—SA No. 7495 to be effective 3/18/2026.

Filed Date: 1/16/26

Accession Number: 20260116-5002.

Comment Date: 5 p.m. ET 2/6/26.

Docket Numbers: ER26-1067-000.

Applicants: Keystone Appalachian Transmission Company.

Description: 205(d) Rate Filing: KATCO submits a Construction Agmt—SA No. 7278 to be effective 3/18/2026.

Filed Date: 1/16/26.

Accession Number: 20260116-5005.

Comment Date: 5 p.m. ET 2/6/26.

Docket Numbers: ER26-1068-000.

Applicants: Central Hudson Gas & Electric Corporation, New York Independent System Operator, Inc.

Description: 205(d) Rate Filing: New York Independent System Operator, Inc. submits tariff filing per 35.13(a)(2)(iii: Central Hudson 205: Revisions to Rate Schedule 12 to be effective 3/18/2026.

Filed Date: 1/16/26.

Accession Number: 20260116-5024.

Comment Date: 5 p.m. ET 2/6/26.

Docket Numbers: ER26-1069-000.

Applicants: IL Solar 1, LLC.

Description: Request for Limited and Prospective Waiver, et al. of IL Solar 1, LLC.

Filed Date: 1/16/26.

Accession Number: 20260116-5046.

Comment Date: 5 p.m. ET 2/6/26.

Docket Numbers: ER26-1070-000.

Applicants: PacifiCorp.

Description: 205(d) Rate Filing: UAMPS TSOA Rev 11 (R.S. No. 297) to be effective 1/17/2026.

Filed Date: 1/16/26.

Accession Number: 20260116-5052.

Comment Date: 5 p.m. ET 2/6/26.

Docket Numbers: ER26-1071-000.

Applicants: Arizona Public Service Company.

Description: 205(d) Rate Filing: RS No. 324 to be effective 3/18/2026.

Filed Date: 1/16/26.

Accession Number: 20260116-5054.

Comment Date: 5 p.m. ET 2/6/26.

Docket Numbers: ER26-1072-000.

Applicants: ISO New England Inc., Public Service Company of New Hampshire, Eversource Energy Service Company (as agent).

Description: 205(d) Rate Filing: Eversource Energy Service Company (as agent) submits tariff filing per 35.13(a)(2)(iii: ISO-NE/PSNH; Original Service Agreement No. TSA-PSNH-007 to be effective 3/1/2024.

Filed Date: 1/16/26.

Accession Number: 20260116-5059.

Comment Date: 5 p.m. ET 2/6/26.

Docket Numbers: ER26-1073-000.

Applicants: Tri-State Generation and Transmission Association, Inc.

Description: 205(d) Rate Filing: Initial Filing of Facilities Use Agreement to be effective 3/18/2026.

Filed Date: 1/16/26.

Accession Number: 20260116-5075.

Comment Date: 5 p.m. ET 2/6/26.

Docket Numbers: ER26-1074-000.

Applicants: Chalan CA Solar Storage, LLC.

Description: 205(d) Rate Filing: Chalan CA Solar Storage MBR Application Filing to be effective 3/18/2026.

Filed Date: 1/16/26.

Accession Number: 20260116-5087.

Comment Date: 5 p.m. ET 2/6/26.

Docket Numbers: ER26-1075-000.

Applicants: OSW Project, LLC.

Description: 205(d) Rate Filing: Application for MBR Authorization and Request for Waivers to be effective 3/18/2026.

Filed Date: 1/16/26.

Accession Number: 20260116-5096.

Comment Date: 5 p.m. ET 2/6/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: January 16, 2026.
Carlos D. Clay,
Deputy Secretary.

[FR Doc. 2026-01145 Filed 1-21-26; 8:45 am]

BILLING CODE 6717-01-P